ENVIRONMENTAL PROTECTION AGENCY

40 CFR Part 52

[AK-01-004a; FRL-7133-1]

Approval and Promulgation of State Implementation Plans; State of Alaska; Fairbanks

AGENCY: Environmental Protection Agency.

ACTION: Direct final rule.

SUMMARY: The Environmental Protection Agency (EPA) is approving a State Implementation Plan (SIP) revision submitted by the State of Alaska. This revision provides for attainment of the carbon monoxide (CO) national ambient air quality standards (NAAQS) in the Fairbanks Nonattainment Area. This action also approves the use of the “CO Emissions Model” for SIP development purposes in EPA Region 10.

DATES: This direct final rule will be effective on April 5, 2002, without further notice, unless EPA receives relevant adverse comment by March 6, 2002. If relevant adverse comments are received, EPA will publish a timely withdrawal of the direct final rule in the Federal Register informing the public that the rule will not take effect. Please note that if EPA receives relevant adverse comment on an amendment, paragraph or section of this rule and if that provision may be severed from the remainder of the rule, EPA may adopt as final those provisions of the rule that are not the subject of a relevant adverse comment.

ADDRESSES: Written comments should be addressed to: Connie Robinson, EPA, Office of Air Quality (OAQ-107), 1200 Sixth Avenue, Seattle, Washington 98101.

Copies of the State's requests, and other information relevant to this action are available for inspection during normal business hours at the following locations: EPA, Office of Air Quality (OAQ-107), 1200 Sixth Avenue, Seattle, Washington 98101, and the Alaska Department of Environmental Conservation, 410 Willoughby Avenue, Suite 303, Juneau, Alaska 99801-1795.

FOR FURTHER INFORMATION CONTACT: Connie Robinson, Office of Air Quality (OAQ-107), EPA, 1200 Sixth Avenue, Seattle, Washington 98101, (206) 553-1086.

SUPPLEMENTARY INFORMATION: Throughout this document, wherever “we,” “us,” or “our” is used, we mean EPA. This supplementary information is organized as follows:

I. Background Information.

A. What National Ambient Air Quality Standard (NAAQS) is considered in today's action?

B. What is the history behind this action?

C. What Clean Air Act (CAA) statutory, regulatory, and policy requirements must be met to approve this action?

II. EPA's Review of the Fairbanks CO Plan.

A. Does the Fairbanks CO Plan meet all the procedural requirements as required by Section 110(a)(2) of the CAA?

B. Does the Fairbanks CO plan include a comprehensive, accurate, current base year inventory from all sources as required in section 187(a)(1) and periodic revisions as required in section 187(a)(5) of the CAA?

C. Does the Fairbanks CO plan meet the requirements of section 187(a)(7) of the CAA which require that serious CO areas submit an Attainment Demonstration which includes annual emissions reductions necessary for reaching attainment by the deadline?

D. Has the State adopted transportation control measures (TCMs) for the purpose of reducing CO emissions as required by section 182(d)(1) and described in section 108(f) (1)(A) of the CAA?

E. Does the Fairbanks CO plan include a forecast of vehicle miles traveled (VMT) for each year before the attainment year of 2001 as required by 187(a) (2) (A) of the CAA?

F. Does the Fairbanks CO plan include contingency measures required by Section 187(a)(3) of the CAA?

G. What levels of CO are estimated for the base year and projected for future years and does the Fairbanks CO plan provide for reasonable further progress (RFP) as required by Section 172(c)(2) and Section 171(1) of the CAA?

H. Is the motor vehicle emission budget approvable as required by Section 176(c)(2)(A) of the CAA and outlined in conformity rules, 40 CFR 93.118(e)(4)?

I. Does Fairbanks have an Inspection and Maintenance (I/M) program in place that meets EPA requirements in section 182(a)(2)(B)of the CAA?

J. Are there controls on stationary sources of CO as required by Section 172(c)(5) of the CAA?

III. Summary of EPA's Action.

IV. Administrative Requirements.

I. Background Information

A. What National Ambient Air Quality Standard (NAAQS) Is Considered in Today's Action?

CO is among the ambient air pollutants for which EPA has established a health-based standard and is the pollutant that is the subject of this action. CO is a colorless, odorless gas emitted in combustion processes. CO enters the bloodstream through the lungs and reduces oxygen delivery to the body's organs and tissues. Exposure to elevated CO levels is associated with impairment of visual perception, work capacity, manual dexterity, and learning ability, and with illness and death for those who already suffer from cardiovascular disease, particularly angina or peripheral vascular disease.

Under section 109(a)(1)(A) of the CAA, we have established primary, health-related NAAQS for CO: 9 parts per million (ppm) averaged over an 8-hour period, and 35 ppm averaged over 1 hour. Fairbanks has never exceeded the 1-hour NAAQS; therefore, the State Implementation Plan revision (Fairbanks CO plan), and this action address only the 8-hour CO NAAQS. Attainment of the 8-hour CO NAAQS is achieved if not more than one non-overlapping 8-hour average in any consecutive 2-year period per monitoring site exceeds 9 ppm (values below 9.5 are rounded down to 9.0 and are not considered exceedances).

B. What Is the History Behind This Action?

Upon enactment of the 1990 CAA Amendments, areas meeting the requirements of section 107(d) of the CAA were designated nonattainment for CO by operation of law. Under section 186(a) of the CAA, each CO nonattainment area was also classified by operation of law as either moderate or serious depending on the severity of the area's air quality problems. Fairbanks was classified as a moderate CO nonattainment area. Moderate CO nonattainment areas were expected to attain the CO NAAQS as expeditiously as practicable but no later than December 31, 1995. If a moderate CO nonattainment area was unable to attain the CO NAAQS by December 31, 1995, the area was reclassified as a serious CO nonattainment area by operation of law. Fairbanks was unable to meet the CO NAAQS by December 31, 1995, and was reclassified as a serious nonattainment area effective March 30, 1998. As a result of the reclassification, the State had 18 months or until October 1, 1999, to submit a new Fairbanks CO plan demonstrating attainment of the CO NAAQS as expeditiously as practicable but no later than December 31, 2000, the CAA attainment date for all serious CO areas.

The required Fairbanks CO plan was not submitted by October 1, 1999, and we made a finding of failure to submit the required plan (See 65 FR 17444, April 3, 2000) which triggered the 18-month time clock for mandatory application of sanctions and a year time clock for additional sanctions and the requirement for a Federal Implementation Plan under the CAA. A complete Fairbanks CO plan was due by October 3, 2001, to stop the clocks.

On August 30, 2001, the Alaska Department of Environmental Conservation (ADEC) submitted the Fairbanks CO plan as a revision to the Alaska SIP. We determined this submittal to be complete and stopped the sanctions' clocks effective September 24, 2001.

Fairbanks did not have the two years of clean data required to attain the standard by December 31, 2000, the required attainment date for CO serious areas, and under section 186(a)(4) of the CAA, Alaska requested and EPA granted a one year extension of the attainment date deadline to December 31, 2001 (66 FR 28836, May 25, 2001).

C. What Clean Air Act (CAA) Statutory, Regulatory, and Policy Requirements Must Be Met To Approve This Action?

Section 172 of the CAA contains general requirements applicable to SIP revisions for nonattainment areas. Sections 186 and 187 of the CAA set out additional air quality planning requirements for CO nonattainment areas.

EPA has issued a “General Preamble” describing the agency's preliminary views on how EPA intends to review SIP revisions submitted under Title I of the CAA. See generally 57 FR 13498 (April 16, 1992) and 57 FR 18070 (April 28, 1992). The reader should refer to the General Preamble for a more detailed discussion of the interpretations of Title I requirements. In this direct final rulemaking action, we are applying these policies to the Fairbanks CO plan, taking into consideration specific factual issues presented.

II. EPA's Review of the Fairbanks CO Plan

A. Does the Fairbanks CO Plan Meet All the Procedural Requirements as Required by Section 110(a)(2) of the CAA?

The CAA requires States to observe certain procedural requirements in developing implementation plans and revisions for submission to EPA. Section 110(a)(2) of the CAA provides that each implementation plan submitted by a State must be adopted after reasonable notice and public hearing. Public noticing for a public meeting held on July 17, 2001, occurred through advertisements in the Fairbanks Daily News Miner and the Internet. The SIP submittal includes a description of the public meeting where the public had the opportunity to comment on the issues addressed in the plan. Also included are the comments received from the public and the response developed by the ADEC staff. Following the required public participation, the State adopted the Fairbanks CO plan on July 27, 2001. The Fairbanks CO Plan demonstrates it has met the procedural requirements of section 110(a)(2) of the CAA.

B. Does the Fairbanks CO Plan Include a Comprehensive, Accurate, Current Base Year Inventory From All Sources as Required in Section 187(a)(1) and Periodic Revisions as Required in Section 187(a)(5) of the CAA?

Yes. Fairbanks submitted a base year inventory for 1995 based on EPA guidance that determined that an inventory for 1995 would satisfy the requirement for a base year inventory. A periodic inventory for 1998 was also submitted. The inventories contain point, area, on-road and non-road mobile source data, and documentation. The inventories were prepared for a typical winter day for each of the years. Emissions for these groupings are presented in the following table.

Emission category | Daily emissions (tons/day): Base year 1995 | Daily emissions (tons/day): Periodic year 1998
Point Sources | 4.14 | 4.20
Area Sources | 1.53 | 1.34
Non-road mobile sources | 4.00 | 3.72
On-road mobile sources | 21.69 | 17.74
Total | 31.36 | 27.01

Total average daily, CO season emissions associated with the Fairbanks nonattainment area for the 1995 base year are 31.36 tons per day. The methodologies used to prepare the base year emissions inventory, as described in the Fairbanks CO plan, are acceptable.

The plan must also revise the inventory every three years until the area reaches attainment. The methodologies used to prepare the periodic year emissions inventory, as described in the Fairbanks CO plan, are acceptable. A discussion of how these inventories meet the requirements needed for approval is in the technical support document (TSD) for this action. Detailed inventory data is contained in the docket maintained by EPA.

C. Does the Fairbanks CO Plan Meet the Requirements of Section 187(a)(7) of the CAA Which Require That Serious CO Areas Submit an Attainment Demonstration Which Includes Annual Emissions Reductions Necessary for Reaching Attainment by the Deadline?

The Fairbanks CO Plan contains an attainment demonstration using rollback modeling to show that emission reductions resulting from implementation of control measures are sufficient to “roll back” the design value to a concentration at or below the NAAQS for CO of 9 ppm. Alaska showed that the 8-hour design value concentration of 9.0 predicted for 2001, the attainment year, documents attainment of the 8-hour CO NAAQS.

D. Has the State Adopted Transportation Control Measures (TCMs) for the Purpose of Reducing CO Emissions as Required by Section 182(d)(1) and Described in Section 108(f) (1)(A) of the CAA?

Section 187(b)(2) of the CAA requires States with serious CO nonattainment areas to submit a SIP revision that includes transportation control strategies and measures to offset any growth in emissions due to growth in vehicle miles traveled (VMT) or vehicle trips. In developing such strategies, a State must consider measures specified in section 108(f) of the CAA and choose and implement such measures as are necessary to demonstrate attainment with the NAAQS. TCMs are designed to reduce mobile pollutant emissions by either improving transportation efficiency or reducing single-occupant vehicle trips. The EPA has reviewed the TCMs in the Fairbanks CO plan and approves them. Our full review of the TCMs is included in the TSD for this action. Following is a brief description of the TCMs included in the plan.

Engine Preheater Control Measure

A control measure included in the plan to reduce motor vehicle cold start emissions was passed by the Fairbanks North Star Borough (the Borough) on April 12, 2001. The local ordinance requires employers with 275 or more parking spaces to provide power to electrical outlets at temperatures of +20° F or lower. In addition, provisions were included to require new or enlarged parking lots of 275 spaces or more to install electrical outlets for parking spaces intended to be used by motorists for more than two hours and to provide power. Provisions were also included for recordkeeping, maintaining existing plug-ins in an operable condition, and penalties for failure to comply. This mandatory component of the plug-in program will help insure that emission reductions are being achieved through plugging-in at temperatures of 20° F and colder when thermal inversions often occur.

Other Control Measures

Engine preheaters are used extensively throughout Fairbanks to ensure vehicles can be easily started under extremely cold conditions. Vehicle emission testing in Alaska has confirmed that preheating vehicles, a practice commonly referred to as “plugging-in,” provides a substantial reduction in motor vehicle idling time and cold start emissions as described in section 108(f)(1)(A)(xi)and (xii). Recognizing the many benefits of plugging-in, the Borough has a long-standing practice of expanding the number of parking spaces with electrical outlets. A recent survey showed that more than 90% of employee parking areas with more than 100 spaces are currently equipped with electrical outlets. The Borough also conducted public awareness campaigns to encourage the use of plug-ins at home and at parking spaces with electrical outlets.

Transit system improvements include expanded service and free wintertime service. The Borough also ran a public awareness campaign to boost transit ridership. These measures have resulted in a 72% increase in ridership during the CO season.

In addition, a total of 11 separate highway improvement projects focusing on intersection and signal improvements have been completed in the nonattainment area during the past 5 years. These projects have a small regional effect on emissions.

E. Does the Fairbanks CO Plan Include a Forecast of Vehicle Miles Traveled (VMT) for Each Year Before the Attainment Year of 2001 as Required by 187(a)(2)(A) of the CAA?

Yes. Estimates of average winter weekday VMT were supplied by Alaska Department of Transportation and Public Facilities (ADOT&PF). VMT was projected to grow at a rate of 1.2% per year from 1995 to 2001.

Fairbanks has committed to preparing annual VMT estimates and forecasts and to submitting these reports (“VMT tracking reports”) to EPA. Under section 187(a)(3) of the Act, annual VMT tracking reports provide a potential basis for triggering implementation of contingency measures in the event that estimates of actual VMT exceed the forecasts contained in the prior annual VMT tracking report.

F. Does the Fairbanks CO Plan Include Contingency Measures Required by Section 187(a)(3) of the CAA?

Section 187(a)(3) of the Act requires serious CO nonattainment areas, such as Fairbanks, to submit a plan revision that provides for contingency measures. The CAA specifies that such measures are to be implemented if any estimate of VMT submitted in an annual VMT tracking report exceeds the VMT predicted in the most recent prior forecast or if the area fails to attain the NAAQS by the attainment date. As a general rule, contingency measures must be structured to take effect without further action by the State or EPA upon the occurrence of certain triggering events.

The Fairbanks Plan includes contingency measures that meet the requirements of section 187(a)(3) of the CAA. In the event that Fairbanks exceeds the ambient CO standard, a number of contingency measures have been established to provide additional emission reductions. Measures are focused on expanded transit operations, increasing the number of parking spaces equipped with electrical plug-in units, and road system improvements. Fairbanks will be implementing these measures whether or not they have a violation which automatically triggers contingency measures.

G. What Levels of CO Are Estimated for the Base Year and Projected for Future Years and Does the Fairbanks CO Plan Provide for Reasonable Further Progress (RFP) as Required by Section 172(c)(2) and Section 171(1) of the CAA?

Under the CAA, states have the responsibility to inventory emissions contributing to NAAQS nonattainment, to track these emissions over time, and to ensure that control strategies are being implemented that reduce emissions and move areas toward attainment. Section 172(c)(1) of the CAA requires all nonattainment plans to contain provisions to provide for “the implementation of all reasonably available control measures as expeditiously as practicable” and to provide for the attainment of the applicable national ambient standard. Further, section 172(c)(2) states that such plan provisions shall require RFP.

Fairbanks has made considerable progress in reducing carbon monoxide emissions over the past three decades. CO concentrations have decreased from a second-high eight-hour average of 19.0 ppm and 45 violations in 1983, to a second-high eight-hour average of 8.9 ppm and zero violations in calendar year 2000. The implementation of local control programs contributed to those reductions. These programs in combination with state and federal programs such as the clean vehicles standard and activity changes have produced a 25.4% reduction in total emissions in the nonattainment area between 1995 and 2001. Based on these considerations, EPA finds that RFP has been demonstrated.

H. Is the Motor Vehicle Emission Budget Approvable as Required by Section 176(c)(2)(A) of the CAA and Outlined in Conformity Rules, 40 CFR 93.118(e)(4)?

Section 176(c)(2)(A) of the CAA requires regional transportation plans to be consistent with the motor vehicle emissions budget contained in the applicable air quality plans for the Fairbanks area. The motor vehicle emissions budget that is established for the 2001 attainment year is approved for Fairbanks. It is as follows:

FNSB Motor Vehicle Emissions Budget
Source category | CO emissions for 2001 (tons/day)
On-Road Sources—Initial Idle | 6.49
On-Road Sources—Traveling | 7.91
Motor Vehicle Emissions Budget (total on-road source emissions) | 14.40

The TSD summarizes how the CO motor vehicle emissions budget meets the criteria contained in the conformity rule (40 CFR 93.118(e)(4)) and is approved for conformity. The initial idle emissions are based on actual vehicle testing and the traveling emissions are based on an emissions model.

This action also approves the use of the “CO Emissions Model” for SIP development purposes. The CO Emissions Model is an on-road motor vehicle emission factor model that was specifically developed for cases like the Fairbanks CO attainment SIP. In August of 1999, EPA reviewed and preliminarily approved the use of the CO Emissions Model for CO SIP development purposes, due to the unique CO issues involved in Alaska and the absence of a more recent update to the MOBILE model at that time. Today's document formalizes that approval of the use of the CO Emissions Model for SIP development for a limited number of CO areas in EPA Region 10 in low altitude regions.

The CO Emissions Model is considered an interim update to MOBILE5b developed to take advantage of the best information currently available on CO emissions, particularly for cold climates, such as Alaska. As such, the CO Emissions Model is not required to be used for SIP development in any area, however, it was approved for use on a voluntary basis for SIP development prior to the official release of MOBILE6, EPA's next motor vehicle emission factor model. MOBILE6 was not available at the time that the Fairbanks attainment SIP was being developed to meet FNSB's regulatory time constraints. However, since EPA is expected to approve MOBILE6 early this year, MOBILE6 should be used for the next control strategy SIP for Fairbanks.

When EPA's approval for the current Fairbanks CO attainment SIP is effective, all future transportation conformity determinations for CO in Fairbanks must be based on the CO Emissions Model until MOBILE6 is officially released. When MOBILE6 is released, Fairbanks must rely upon either the CO Emissions Model or MOBILE6 for new conformity analyses that begin prior to the end of the grace period for use of MOBILE6, which EPA intends to establish as two years after MOBILE6's official release. After the end of the MOBILE6 conformity grace period which EPA intends to establish under 40 CFR 93.111 when it officially releases the model, all new conformity analyses must be based on MOBILE6.

Fairbanks is currently the only area that has used the CO Emissions Model in its SIP which EPA has formally acted upon. Therefore, no other area should be using the CO Emissions Model for transportation conformity purposes at this time. However, the above Fairbanks policy would apply to any other areas that have completed significant SIP work with the CO Emissions Model prior to MOBILE6's release. At this time, EPA anticipates that Medford, Oregon, and Anchorage, Alaska, are the only other areas that have developed CO SIPs with the CO Emissions Model. EPA will expect future SIP submissions in these areas to be based on Mobile6. Areas that have questions about using the CO Emissions Model should consult the EPA Region 10 Office on whether this is appropriate.

I. Does Fairbanks Have an Inspection and Maintenance (I/M) Program in Place That Meets EPA Requirements in Section 182(a)(2)(B) of the CAA?

Yes. Fairbanks primary CO control measure is their I/M program initially implemented in 1985. Since then, Fairbanks has continued to improve its performance. Improved program elements include: test equipment and procedures, quality assurance and quality control procedures, vehicle repair requirements and enforcement. The Fairbanks I/M program, improvements and amendments, have been adopted through previous SIP revisions (51 FR 8203, September 15, 1986; 54 FR 31522, July 31, 1989; 60 FR 17232, April 5, 1995; 64 FR 72940, December 29, 1999) or are being acted on in other Federal Register documents (67 FR 822, January 8, 2002 and 67 FR 849, January 8, 2002).

J. Are There Controls on Stationary Sources of CO as Required by Section 172(c)(5) of the CAA?

Yes. Section 172(c)(5) of the CAA requires States with nonattainment areas to include in their SIPs a permit program for the construction and operation of new or modified major stationary sources in nonattainment areas. In a separate, prior action, we approved the new source review permit program for Alaska. (See 60 FR 8943, February 16, 1995.)

III. Summary of EPA's Actions

We are approving the following elements of the Fairbanks CO Attainment Plan, as submitted on August 30, 2001:

A. Procedural requirements, under section 110(a)(1) of the CAA;

B. Baseline and projected emission inventories, under sections 172(c)(3) and 187(a)(1) of the CAA;

C. Attainment demonstration, under section 187(a)(7) of the CAA;

D. The TCM program under 182(d)(1) and 108(f)(A) of the CAA

E. VMT forecasts under section 187(a)(2)(A) of the CAA;

F. Contingency measures under section 187(a)(3) of the CAA.

G. RFP demonstration, under sections 171(1), 172(c)(2), and 187(a)(7) of the CAA;

H. The conformity budget under section 176(c)(2)(A) of the CAA and section 93.118 of the transportation conformity rule (40 CAR part 93, subpart A); and

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 5, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Parts 52

Environmental protection, Air pollution control, Carbon monoxide, Incorporation by reference, Intergovernmental relations, Particulate matter, Reporting and recordkeeping requirements.

Dated: January 16, 2002.
Randall F. Smith,
Acting Regional Administrator, Region 10.

Part 52, Chapter I, title 40 of the Code of Federal Regulations is amended as follows:

PART 52—[AMENDED]

1. The authority citation for Part 52 continues to read as follows:

Authority: 42 U.S.C. 7401 et seq.

Subpart C—Alaska

2. Section 52.70 is amended by adding paragraph (c)(32) to read as follows:

§ 52.70 Identification of plan.

* * * * *

(c) * * *

(32) On August 30, 2001 the Alaska Department of Environmental Conservation submitted revisions to the Carbon Monoxide State Implementation Plan for Fairbanks, Alaska.

(i) Incorporation by reference.

(A) Air Quality Control Regulations, 18 AAC 50.030, as adopted 7/27/01, effective 9/21/01.

(B) Assembly Ordinance 2001-17 mandating a Fairbanks North Star Borough motor vehicle plug-in program, as adopted 4/12/2001, effective 4/13/01.

(ii) Additional Material.

Volume II, Section III.C of the State Air Quality Control Plan adopted 7/27/01, effective 9/21/01; Volume III.C3, III.C.5, C.11, and C.12 of the Appendices; adopted 7/27/01, effective 9/21/01.

[FR Doc. 02-2505 Filed 2-1-02; 8:45 am]

BILLING CODE 6560-50-P